DEPARTMENT OF TRANSPORTATION

Federal Aviation Administration

14 CFR Part 71

[Docket No. FAA-2021-0822; Airspace Docket No. 21-AGL-1]

RIN 2120-AA66

Proposed Amendment of VOR Federal Airways V-214, V-285, and V-305, and Revocation of V-96 in the Vicinity of Kokomo, IN

AGENCY: Federal Aviation Administration (FAA), DOT.

ACTION: Notice of proposed rulemaking (NPRM).

SUMMARY: This action proposes to amend VHF Omnidirectional Range (VOR) Federal airways V-214, V-285, and V-305, and revoke V-96. The FAA is proposing this action due to the planned decommissioning of the VOR portion of the Kokomo, IN, VOR/Tactical Air Navigation (VORTAC) navigational aid (NAVAID). The Kokomo VOR is being decommissioned in support of the FAA's VOR Minimum Operational Network (MON) program.

DATES: Comments must be received on or before December 17, 2021.

ADDRESSES: Send comments on this proposal to the U.S. Department of Transportation, Docket Operations, 1200 New Jersey Avenue SE, West Building Ground Floor, Room W12-140, Washington, DC 20590; telephone: 1(800) 647-5527, or (202) 366-9826. You must identify FAA Docket No. FAA-2021-0822; Airspace Docket No. 21-AGL-1 at the beginning of your comments. You may also submit comments through the internet at https://www.regulations.gov.

FAA Order JO 7400.11F, Airspace Designations and Reporting Points, and subsequent amendments can be viewed online at https://www.faa.gov/air_traffic/publications/. For further information, you can contact the Rules and Regulations Group, Federal Aviation Administration, 800 Independence Avenue SW, Washington, DC 20591; telephone: (202) 267-8783. FAA JO 7400.11F is also available for inspection at the National Archives and Records Administration (NARA). For information on the availability of FAA Order JO 7400.11F at NARA, email: fr.inspection@nara.gov or go to https://www.archives.gov/federal-register/cfr/ibr-locations.html.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the National Airspace System (NAS) as necessary to preserve the safe and efficient flow of air traffic.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2021-0822; Airspace Docket No. 21-AGL-1) and be submitted in triplicate to the Docket Management Facility (see the ADDRESSES section for address and phone number). You may also submit comments through the internet at https://www.regulations.gov.

Commenters wishing the FAA to acknowledge receipt of their comments on this action must submit with those comments a self-addressed, stamped postcard on which the following statement is made: “Comments to FAA Docket No. FAA-2021-0822; Airspace Docket No. 21-AGL-1.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at https://www.regulations.gov. Recently published rulemaking documents can also be accessed through the FAA's web page at https://www.faa.gov/air_traffic/publications/airspace_amendments/.

You may review the public docket containing the proposal, any comments received and any final disposition in person in the Dockets Office (see the ADDRESSES section for address and phone number) between 9:00 a.m. and 5:00 p.m., Monday through Friday, except Federal holidays. An informal docket may also be examined during normal business hours at the office of the Operations Support Group, Central Service Center, Federal Aviation Administration, 10101 Hillwood Parkway, Fort Worth, TX 76177.

Availability and Summary of Documents for Incorporation by Reference

This document proposes to amend FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

Background

The FAA is planning to decommission the Kokomo, IN, VOR in July 2022. The Kokomo VOR was one of the candidate VORs identified for discontinuance by the FAA's VOR MON program and listed in the Final policy statement notice, “Provision of Navigation Services for the Next Generation Air Transportation System (NextGen) Transition to Performance-Based Navigation (PBN) (Plan for Establishing a VOR Minimum Operational Network),” published in the Federal Register of July 26, 2016 (81 FR 48694), Docket No. FAA-2011-1082.

Although the VOR portion of the Kokomo VORTAC is planned for decommissioning, the co-located Distance Measuring Equipment (DME) is being retained to support NextGen PBN flight procedure requirements.

The VOR Federal airways affected by the Kokomo VOR decommissioning are V-96, V-214, V-285, and V-305. With the planned decommissioning of the Kokomo VOR, the remaining ground-based NAVAID coverage in the area is insufficient to enable the continuity of the affected airways. As such, proposed modifications to V-214, V-285, and V-305 would result in the airways being shortened, as well as the proposed revocation of V-96 in its entirety. To overcome the proposed modifications and revocation to the affected airways, instrument flight rules (IFR) traffic could use portions of adjacent VOR Federal airways, including V-11, V-38, V-51, V-55, V-97, V-192, V-210, V-340, and V-371, or receive air traffic control (ATC) radar vectors to fly around or through the affected area. Additionally, IFR pilots equipped with RNAV capabilities could also navigate point to point using the existing fixes that would remain in place to support continued operations through the affected area. Visual flight rules (VFR) pilots who elect to navigate via the affected ATS routes could also take advantage of the adjacent ATS routes or ATC services listed previously.

Prior to this NPRM, the FAA published a rule for Docket No. FAA-2021-0086 in the Federal Register (86 FR 52961; September 24, 2021), amending VOR Federal airway V-285 by removing the airway segment between the White Cloud, MI, VOR/DME and the Traverse City, MI, VOR/DME. That airway amendment, effective December 2, 2021, is included in this NPRM.

The Proposal

The FAA is proposing an amendment to 14 CFR part 71 to amend VOR Federal airways V-214, V-285, and V-305, and to remove VOR Federal airway V-96 due to the planned decommissioning of the Kokomo, IN, VOR. The proposed VOR Federal airway actions are described below.

V-96: V-96 currently extends between the Brickyard, IN, VORTAC and the intersection of the Fort Wayne, IN, VORTAC 071° and Flag City, OH, VORTAC 289° radials (TWERP fix). The FAA proposes to remove the airway in its entirety.

V-214: V-214 currently extends between the Kokomo, IN, VORTAC and the Muncie, IN, VOR/Distance Measuring Equipment (VOR/DME); between the intersection of the Appleton, OH, VORTAC 236° and Zanesville, OH, VOR/DME 274° radials (GLOOM fix) and the Bellaire, OH, VOR/DME; and between the Martinsburg, WV, VORTAC and the Teterboro, NJ, VOR/DME. The FAA proposes to remove the airway segment between the Kokomo, IN, VORTAC and the Muncie, IN, VOR/DME. The unaffected portions of the existing airway would remain as charted.

V-285: V-285 currently extends between the Brickyard, IN, VORTAC and the White Cloud, MI, VOR/DME. The FAA proposes to remove the airway segment between the Brickyard, IN, VORTAC and Goshen, IN, VORTAC. The unaffected portions of the existing airway would remain as charted.

V-305: V-305 currently extends between the El Dorado, AR, VOR/DME and the Kokomo, IN, VORTAC. The FAA proposes to remove the airway segment between the Brickyard, IN, VORTAC and Kokomo, IN, VORTAC. The unaffected portions of the existing airway would remain as charted.

All NAVAID radials listed in the VOR Federal airway descriptions below are unchanged and stated in True degrees.

VOR Federal airways are published in paragraph 6010(a) of FAA Order JO 7400.11F, dated August 10, 2021, and effective September 15, 2021, which is incorporated by reference in 14 CFR 71.1. The VOR Federal airways listed in this document would be published subsequently in FAA JO 7400.11.

FAA Order JO 7400.11, Airspace Designations and Reporting Points, is published yearly and effective on September 15.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures,” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 6010(a) Domestic VOR Federal Airways.

* * * * *

V-96 [Removed]

* * * * *

V-214 [Amended]

From INT Appleton, OH, 236° and Zanesville, OH, 274° radials; Zanesville; to Bellaire, OH. From Martinsburg, WV; INT Martinsburg 094° and Baltimore, MD, 300° radials; Baltimore; INT Baltimore 093° and Dupont, DE, 223° radials; Dupont; Yardley, PA; to Teterboro, NJ.

* * * * *

V-285 [Amended]

From Goshen, IN; INT Goshen 038° and Kalamazoo, MI, 191° radials; Kalamazoo; INT Kalamazoo 014° and Victory, MI, 167° radials; Victory; to White Cloud, MI.

* * * * *

V-305 [Amended]

From El Dorado, AR; Little Rock, AR; Walnut Ridge, AR; Malden, MO; Cunningham, KY; Pocket City, IN; INT Pocket City 046° and Hoosier, IN, 205° radials; Hoosier; INT Hoosier 025° and Brickyard, IN, 185° radials; to Brickyard.

* * * * *

Issued in Washington, DC, on October 26, 2021.
Michael R. Beckles,
Acting Manager, Rules and Regulations Group.

[FR Doc. 2021-23710 Filed 11-1-21; 8:45 am]

BILLING CODE 4910-13-P